UNIFIED CARRIER REGISTRATION PLAN

Sunshine Act Meeting Notice; Unified Carrier Registration Plan Board of Directors Meeting

TIME AND DATE: September 5, 2019, from Noon to 1:00 p.m., Eastern daylight time.

PLACE: This meeting will be accessible via conference call. Any interested person may call 1-866-210-1669, passcode 5253902#.

STATUS: This meeting will be open to the public.

MATTERS TO BE CONSIDERED: The Unified Carrier Registration Plan Board of Directors (the “Board”) will continue its work in developing and implementing the Unified Carrier Registration Plan and Agreement. The subject matter of the meeting will include:

AGENDA

PORTIONS OPEN TO THE PUBLIC

I. Welcome, Call to Order, and Introductions—UCR Acting Chair

UCR Acting Chair will call the meeting to order, call roll for the Board, and facilitate self-introductions of guests.

II. Verification of Publication of Meeting Notice—Chief Legal Officer

Publication of notice for the meeting on the UCR website and in the Federal Register will be verified.

III. Review and Approval of Agenda and Setting of Ground Rules—UCR Acting Chair

For Discussion and Possible Board Action

Agenda will be reviewed and the Board will consider adoption.

Ground Rules

• Board action only to be taken in designated areas on agenda.

• Please MUTE your telephone.

• Do NOT place call on hold.

IV. Possible Revisions to Proposed Budgets for 2020 and 2021—Finance Chair and Depository Manager

For Discussion and Possible Board Action

The Finance Chair and Depository Manager will lead a discussion concerning the need for revisions to the proposed budgets for 2020 and 2021 in light of increased operating costs. The Finance Chair and Depository Manager will recommend that the Board adopt the suggested revisions to the proposed budgets for 2020 and 2021.

V. Comments to Proposed Rulemaking regarding UCR 2020/2021 Fees—Finance Chair and Depository Manager

For Discussion and Possible Board Action

The Finance Chair and Depository Manager will recommend that the Board authorize the UCR Acting Chair to submit written comments to the FMCSA in response to the FMCSA's notice of proposed rulemaking regarding the fee levels for the 2020 and 2021 UCR registration years (Fees for the Unified Carrier Registration Plan and Agreement; 49 CFR part 367). The proposed comments include a request to further reduce the proposed UCR fee levels for the 2020 and 2021 UCR registration years published in the notice.

VI. Adjourn

UCR Acting Chair will adjourn the meeting.

This agenda will be available no later than 5:00 p.m. Eastern daylight time, August 27, 2019 at: https://plan.ucr.gov.

CONTACT PERSON FOR MORE INFORMATION: Elizabeth Leaman, Acting Chair, Unified Carrier Registration Plan Board of Directors, (617) 305-3783, elizabeth.leaman@state.ma.us.

Alex B. Leath,
Chief Legal Officer, Unified Carrier Registration Plan.

[FR Doc. 2019-18984 Filed 8-29-19; 11:15 am]

BILLING CODE 4910-YL-P